DEPARTMENT OF ENERGY

Federal Energy Regulatory Commission

Combined Notice of Filings #1

Take notice that the Commission received the following electric corporate filings:

Docket Numbers: EC22-113-000.

Applicants: Titan Solar 1, LLC, Helios Solar Capital, LLC.

Description: Joint Application for Authorization Under Section 203 of the Federal Power Act of Titan Solar 1, LLC, et al.

Filed Date: 8/23/22.

Accession Number: 20220823-5105.

Comment Date: 5 p.m. ET 9/13/22.

Take notice that the Commission received the following electric rate filings:

Docket Numbers: ER17-556-006; ER17-104-008; ER17-105-008; ER10-1362-008; ER12-2639-011; ER21-2330-001; ER21-2331-001; ER21-2333-001; ER21-2336-001.

Applicants: Tecolote Wind LLC, Red Cloud Wind LLC, Duran Mesa LLC, Clines Corners Wind Farm LLC, Ocotillo Express LLC, Hatchet Ridge Wind, LLC, Broadview Energy JN, LLC, Broadview Energy KW, LLC, Grady Wind Energy Center, LLC

Description: Supplement to June 30, 2022 Triennial Market Power Analysis for Southwest Region of Grady Wind Energy Center, LLC, et al.

Filed Date: 8/24/22.

Accession Number: 20220824-5018.

Comment Date: 5 p.m. ET 9/14/22.

Docket Numbers: ER22-2707-000.

Applicants: Gulf Power Company.

Description: Notice of Cancellation of Market Based Rate Tariff of Florida Power & Light Company.

Filed Date: 8/23/22.

Accession Number: 20220823-5107.

Comment Date: 5 p.m. ET 9/13/22.

Docket Numbers: ER22-2708-000.

Applicants: PJM Interconnection, L.L.C.

Description: § 205(d) Rate Filing: Original ISA, Service Agreement No. 6582; Queue No. AE2-333 to be effective 7/25/2022.

Filed Date: 8/24/22.

Accession Number: 20220824-5012.

Comment Date: 5 p.m. ET 9/14/22.

Docket Numbers: ER22-2709-000.

Applicants: Tampa Electric Company.

Description: § 205(d) Rate Filing: Rate Schedule No. 104_Osprey Interconnection Agreement to be effective 10/24/2022.

Filed Date: 8/24/22.

Accession Number: 20220824-5031.

Comment Date: 5 p.m. ET 9/14/22.

Docket Numbers: ER22-2710-000.

Applicants: Midcontinent Independent System Operator, Inc.

Description: § 205(d) Rate Filing: 2022-08-24_SA 3261 Termination of MidAmerican-Bridges Wind Energy GIA (J528) to be effective 4/14/2020.

Filed Date: 8/24/22.

Accession Number: 20220824-5035.

Comment Date: 5 p.m. ET 9/14/22.

Docket Numbers: ER22-2711-000.

Applicants: PacifiCorp.

Description: Tariff Amendment: Termination of Engineering and Procurement Agreement—Copco No. 1 to be effective 10/24/2022.

Filed Date: 8/24/22.

Accession Number: 20220824-5066.

Comment Date: 5 p.m. ET 9/14/22.

Docket Numbers: ER22-2712-000.

Applicants: PacifiCorp.

Description: Tariff Amendment: Termination of Engineering and Procurement Agreement—Copco No. 2 to be effective 10/24/2022.

Filed Date: 8/24/22.

Accession Number: 20220824-5067.

Comment Date: 5 p.m. ET 9/14/22.

Docket Numbers: ER22-2713-000.

Applicants: Parkway Generation Sewaren Urban Renewal Entity LLC.

Description: Compliance filing: Notice of Succession—Market-Based Rate Tariff to be effective 8/25/2022.

Filed Date: 8/24/22.

Accession Number: 20220824-5070.

Comment Date: 5 p.m. ET 9/14/22.

Docket Numbers: ER22-2714-000.

Applicants: Parkway Generation Sewaren Urban Renewal Entity LLC.

Description: Compliance filing: Notice of Succession—Reactive Service Tariff to be effective 8/25/2022.

Filed Date: 8/24/22.

Accession Number: 20220824-5072.

Comment Date: 5 p.m. ET 9/14/22.

Take notice that the Commission received the following electric reliability filings:

Docket Numbers: RR22-4-000

Applicants: North American Electric Reliability Corporation

Description: Request of North American Electric Reliability Corporation for Acceptance of 2023 Business Plans and Budgets of NERC and Regional Entities and for Approval of Proposed Assessments to Fund Budgets.

Filed Date: 8/23/22

Accession Number: 20220823-5101

Comment Date: 5 p.m. ET 9/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2022.
Kimberly D. Bose,
Secretary.

[FR Doc. 2022-18655 Filed 8-29-22; 8:45 am]

BILLING CODE 6717-01-P